DEPARTMENT OF COMMERCE

International Trade Administration

Notice of Open Meeting of the President's Advisory Council on Doing Business in Africa

AGENCY: International Trade Administration, U.S. Department of Commerce.

ACTION: Notice of an Open Meeting.

SUMMARY: The President's Advisory Council on Doing Business in Africa (Council) will hold a meeting via teleconference to deliberate and vote on the adoption of a letter outlining the Council's priority recommendations to the President. The final agenda will be posted at least one week in advance of the meeting on the Council's Web site at http://trade.gov/pac-dbia.

DATES: This teleconference will be held on February 28, 2017 at 9:00 a.m. (EST). The deadline for members of the public to register to participate in or listen to the meeting is 5:00 p.m. (EST), February 20, 2017.

ADDRESSES: The meeting will be held by conference call. The call-in number and passcode will be provided by email to registrants. Requests to register (including for auxiliary aids) and any written comments should be submitted to: President's Advisory Council on Doing Business in Africa, U.S. Department of Commerce, M-800, 1300 Pennsylvania Avenue NW., Washington, DC 20230, OACIO@trade.gov. Members of the public are encouraged to submit registration requests and written comments via email to ensure timely receipt.

FOR FURTHER INFORMATION CONTACT: Joe Holecko, Executive Secretary, President's Advisory Council on Doing Business in Africa, Ronald Reagan International Trade Center, 1300 Pennsylvania Ave. NW., Suite 800M Department of Commerce, Washington, DC, 20004 telephone: 202-482-4783, email: dbia@trade.gov.

SUPPLEMENTARY INFORMATION:

Background: President Barack Obama directed the Secretary of Commerce to establish the President's Advisory Council on Doing Business in Africa by Executive Order No. 13675 dated August 5, 2014. The Council was established by charter on November 4, 2014, to advise the President, through the Secretary of Commerce, on strengthening commercial engagement between the United States and Africa, with a focus on advancing the President's Doing Business in Africa Campaign as described in the U.S. Strategy Toward Sub-Saharan Africa of June 14, 2012. The Council's charter was renewed in September 2016. This Council is established in accordance with the provisions of the Federal Advisory Committee Act (FACA), as amended, 5 U.S.C. App.

Public Submissions: The public is invited to submit written statements to the Council. Statements must be received by 5:00 p.m. February 21, 2017 by either of the following methods:

a. Electronic Submissions

Submit statements electronically to Joe Holecko, Executive Secretary, President's Advisory Council on Doing Business in Africa, via email: dbia@trade.gov.

b. Paper Submissions

Send paper statements to Joe Holecko, Executive Secretary, President's Advisory Council on Doing Business in Africa, Ronald Reagan International Trade Center, 1300 Pennsylvania Ave. NW., Suite 800M Department of Commerce, Washington, DC, 20004.

Statements will be provided to the members in advance of the meeting for consideration and also will be posted on the President's Advisory Council on Doing Business in Africa Web site (http://trade.gov/pac-dbia) without change, including any business or personal information provided such as names, addresses, email addresses, or telephone numbers. All statements received, including attachments and other supporting materials, are part of the public record and subject to public disclosure. You should submit only information that you wish to make publicly available.

Meeting minutes: Copies of the Council's meeting minutes will be available within ninety (90) days of the meeting on the Council's Web site at http://trade.gov/pac-dbia.

Dated: February 8, 2017.
Joe Holecko,
Executive Secretary President's Advisory Council on Doing Business in Africa.

[FR Doc. 2017-02956 Filed 2-10-17; 8:45 am]

BILLING CODE 3510-DR-P